DEPARTMENT OF AGRICULTURE

Agricultural Research Service

Notice of Intent To Seek OMB Approval To Collect Information: Forms Pertaining to the Peer Review of ARS Research Projects

AGENCY: Agricultural Research Service (ARS), USDA.

ACTION: Notice and request for comments.

SUMMARY: The proposed information collection requirement described below will be submitted to the Office of Management and Budget (OMB) for review, as required by the Paperwork Reduction Act of 1995 and OMB implementing regulations. The Department is soliciting public comments on the subject proposal.

DATES: Written comments on this notice must be received by August 5, 2009.

ADDRESSES: Address all comments concerning this notice to: Michael S. Strauss, Peer Review Program Coordinator, Office of Scientific Quality Review, Agricultural Research Agency, USDA, 5601 Sunnyside Avenue, Beltsville, Maryland 20705; Phone: 301-504-3283; Fax: 301-504-1251.

FOR FURTHER INFORMATION CONTACT: Michael S. Strauss, 301-504-3283.

SUPPLEMENTARY INFORMATION: The Office of Scientific Quality Review will seek approval from OMB to update six existing forms that will allow the ARS to efficiently manage data associated with the peer review of agricultural research. All forms are transferred and received in an electronic storage format that does not include on-line access.

Abstract: The Office of Scientific Quality Review (OSQR) was established in September of 1999 as a result of the Agricultural Research, Extension, and Education Reform Act 1998 (“The Act”) (Pub. L. 105-185). The Act included mandates to perform scientific peer reviews of all research activities conducted by the USDA. The OSQR manages the ARS peer review system by centrally planning peer panel reviews for ARS research projects on a five-year cycle.

Each set of reviews is assigned a chairperson to govern the review process. The majority of the peer reviewers are non-ARS scientists. Peer review panels are convened to provide in-depth discussion and review of the research project plans. Each panel reviewer receives information on between 1 and 20 ARS research projects.

On average, 220 research projects are reviewed annually by an estimated 100 reviewers; whereby approximately 200 are reviewed by panel and approximately 20 are reviewed through an ad hoc process. The organization and management of this peer review system, particularly panel reviews, is highly dependent on the use of forms.

The Office of Scientific Quality Review will seek OMB approval of the following forms:

1. Confidentiality Agreement Form—USDA uses this form to document that a selected reviewer is responsible for keeping confidential any information learned during the subject peer review process. The Confidentiality Agreement is signed prior to the reviewer's involvement in the peer review process. This form requires an original signature. USDA's collection of information on the Confidentiality Agreement Form is needed to document that a selected reviewer is responsible for keeping confidential any information learned during the subject peer review process. The Confidentiality Agreement would be signed prior to the reviewer's involvement in the peer review process.

2. Panelist Information Form—USDA uses this form to gather up-to-date background information about the reviewer. Reviewers often include sensitive information on this form. This form requires an original signature. Collection of information on the Panelist Information Form is needed to gather up-to-date background information about the reviewer and essential information needed for reimbursement of travel expenses and/or payment of an honorarium. It contains sensitive personally identifiable information.

3. Peer Review of an ARS Research Project Forms (Peer Review Forms)—USDA uses these forms to guide the reviewer's comments on the subject project. The forms contain the reviewing criteria and space for the reviewer's narrative comments and evaluation. For Ad Hoc Reviewers, who are not members of a review panel, a check-off listing of the Action Classes is added at the end to allow the individual also to provide an overall rating of the plan. Collection of information on the Peer Review Forms is needed to guide the reviewer comments on the subject project. The forms contain the reviewing criteria and space to insert comments, and for Ad Hoc reviewers a place to register an overall Action Class.

4. Recommendations for ARS Research Project Form (Recommendations Form)—USDA uses this form to guide the panel's evaluation and critique of the review process. The form contains the recommendations of the panel for the subject research project. Collection of information on the Recommendations Form is needed to provide the panel's critique of the reviewed research project plan. It contains the consensus recommendations of the panel for the subject research project.

5. Panel Expense Report Form (Expense Report)—USDA uses this form to document a panel reviewer's expense incurred traveling to and attending a peer review meeting. The Expense Report includes lodging, meals, and transportation expenses. When completed, the form contains sensitive information. Collection of information on the Expense Report Form is needed to document the travel expense incurred by a panel reviewer in attending a peer review meeting. The Expense Report includes lodging, meals, and transportation expenses, as well as personal information. It includes sensitive information.

6. Panel Invoice Form (Honorarium Form)—USDA uses this form to document the transfer of an honorarium to a peer reviewer. Reviewers receive honoraria as compensation for serving as peer review panelists. This form requires an original signature. It is used only in special circumstances where reviewers cannot accept a direct bank transfer of the honorarium. In such cases this is used in lieu of the SF-1034 to provide the OSQR a written record of the honorarium payment. Collection of information on the Honorarium Form is needed to document the transfer of an honorarium to the peer reviewer in those rare cases where an SF-1034 is not completed. It contains personally identifiable information.

Estimate of Burden: The burden associated with this approval process is the minimum required to achieve program objectives. The information collection frequency is the minimum consistent with program objectives. The following estimates of time required to complete the forms are based on OSQR's experience in working with reviewers and accepting their input into our procedures.

1. Confidentiality Agreement Form: This form takes 10-15 minutes to complete. It only requires a signature and date, but the reviewer must read the terms of the agreement.

2. Panelist Information Form: This form takes about 20 minutes to complete. It resembles a typical request for personal information; many reviewers provide the same data as grant reviewers in other peer review programs.

3. Peer Review of an ARS Research Project Form (Peer Review Form): This form takes 5-7 hours to complete. Because this is a review, the page length significantly varies. Reviewers are free to write as much as they wish, but to complete the form they must thoroughly read and evaluate a research project plan that may exceed 50 pages in length.

4. Recommendations for ARS Research Project Form (Recommendations Form): This form takes 1-2 hours to complete. Because this is a review, the page length significantly varies. Reviewers are free to write as much as they wish. The form is prepared by one reviewer combining comments from two of the reviewers as found on the Peer Review Form as well as adding further analyses derived from discussion with other reviewers.

5. Panel Expense Report Form (Expense Report): This form takes 10-12 minutes to complete.

6. Panel Invoice Form (Honorarium Form): This form takes 3-5 minutes to complete. This form has the reviewer's personal information pre-filled and the reviewer only verifies its accuracy and signs.

Respondents and Estimated Number of Respondents: Scientific experts, currently working in the same discipline as the research projects under review, are selected to review research projects. These experts are notable peers within and external to the ARS. Annually, about 150 peer reviewers complete these forms. Ad hoc reviewers are paid a modest honorarium but generally do not travel to meet with other reviewers; and thus they do not complete Expense Report and Invoice Forms. On occasion, ad hoc reviewers may participate in a Web-based panel, thus necessitating completion of an either an SF-1034 or an Honorarium Form. Ad hoc reviewers, retained for special situations, will make up about 20 percent of all the reviewers retained annually.

Frequency of Response:

Form | Number of respondents | Annual frequency
Confidentiality Agreement | 130 | 1 per respondent (Total of 130).
Peer Review Form (Required for all reviewers and they have 1-4 review assignments on average.) | 130 | 3-4 per panel respondent and 1 per Ad Hoc Respondent (Total of 450).
Expense Report | 100 | 1 per respondent (Total of 100).
Honorarium Form | 20 | 1 per respondent (Total of 20).
Panelist Information Forms | 130 | 1 per respondent for each form (Total of 130).
Recommendations Form (Required on panel reviews, whereby comments from the peer review form are combined into one file.) | 75 | 2.5 per respondent (Total of 200).

Estimated Total Annual Burden on Respondents:

Form (Estimate of time required to complete) | Number completed annually | Total burden (hr.)
Confidentiality Agreement (12 min.) | 130 | 26
Peer Review Forms (5 hrs) | 450 | 2250
Panelist Information Forms (20 min.) | 150 | 50
Recommendations Form (1 hr) | 220 | 220
Honorarium Form (3 min.) | 20 | 1
Expense Report (10 min.) | 150 | 25

Authority: The Paperwork Reduction Act of 1995, 44 U.S.C. chap. 35.

Comments: The Notice is soliciting comments from members of the public and affected agencies concerning the proposed collection of information to: (1) Evaluate whether the proposed collection is necessary for the proper performance of ARS functions, including whether the information will have practical utility; (2) Evaluate the accuracy of the estimated burden from proposed collection of information; (3) Enhance the quality, utility, and clarity of the information to be collected; and (4) Minimize the burden of the collection of information on those who are to respond, including the use of appropriate automated collection techniques or other forms of information technology, e.g., permitting electronic submission of responses. All responses to this notice will be summarized and included in the request for OMB approval. All comments will become a matter of public record.

Dated: May 5, 2009.
Antoinette Betschart,
Associate Administrator, Research, Management and Operations, Agricultural Research Service, USDA.

[FR Doc. E9-12597 Filed 5-29-09; 8:45 am]

BILLING CODE 3410-03-P